DEPARTMENT OF JUSTICE

Notice of Lodging of Consent Decree Under the Comprehensive Environmental Response, Compensation, and Liability Act and the Texas Solid Waste Disposal Act

Notice is hereby given that on October 24, 2011, a proposed Consent Decree in United States of America v. Hercules Incorporated and Rockwell Automation, Inc., Civil Action No. 6:11-cv-00267-WSS was lodged with the United States District Court for the Western District of Texas.

In this action the United States brought suit against Hercules Incorporated and Rockwell Automation, Inc.(collectively, “Defendants”), under the Comprehensive Environmental Response, Compensation, and Liability Act (“CERCLA”), 42 U.S.C. 9601-9675, and the Texas Solid Waste Disposal Act, Texas Health & Safety Code Ann. §§ 361.001 to 361.966 (hereafter citations to this statute will be in the form “TSWDA § 361.xxx”), for recovery of response costs incurred, and to obtain a declaratory judgment as to liability for response costs to be incurred, for responding to the releases and threatened releases of solid wastes and hazardous substances at and from the Naval Weapons Industrial Reserve Plant in McGregor, Texas (“NWIRP McGregor”) and the adjacent areas where such solid wastes and hazardous substances have come to be located (collectively, the “NWIRP McGregor Site”). The Consent Decree requires Defendants to pay to the United States $14,000,000. The Consent Decree also includes a finding that Settling Defendants are entitled to protection from contribution actions or claims as provided by CERCLA Section 113(f)(2), 42 U.S.C. 9613(f)(2), for “matters addressed” in the Consent Decree. With certain exceptions, the Consent Decree defines “matters addressed” in the Consent Decree to be all response actions taken or to be taken and all response costs incurred or to be incurred, at or in connection with the NWIRP McGregor Site, by the United States or any other person. In addition, Defendants agree to forgo any claims against the United States arising under Federal Contracts and related to “matters addressed” in the Consent Decree. Under the Consent Decree, the United States covenants not to sue or to take administrative action against Settling Defendants pursuant to CERCLA Sections 106 and 107(a), 42 U.S.C. 9606 and 9607(a), and TSWDA § 361.344, with regard to the NWIRP McGregor Site.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to U.S. v. Hercules Incorporated, D.J. Ref. 90-11-3-08465/1.

During the public comment period, the Consent Decree, may also be examined on the following Department of Justice Web site: http://www.usdoj.gov/enrd/Consent_Decrees.html. A copy of the Consent Decree may also be obtained by mail from the Consent Decree Library, P.O. Box 7611, U.S. Department of Justice, Washington, DC 20044-7611 or by faxing or emailing a request to Tonia Fleetwood (tonia.fleetwood@usdoj.gov), fax no. (202) 514-0097, phone confirmation number (202) 514-1547. If requesting a copy from the Consent Decree Library by mail, please enclose a check in the amount of $5.50 (25 cents per page reproduction cost) payable to the U.S. Treasury or, if requesting by email or fax, forward a check in that amount to the Consent Decree Library at the address given above.

Maureen M. Katz,
Assistant Chief, Environmental Enforcement Section, Environment and Natural Resources Division.

[FR Doc. 2011-28045 Filed 10-28-11; 8:45 am]

BILLING CODE 4410-15-P